DEPARTMENT OF HOMELAND SECURITY

Coast Guard

33 CFR Part 165

[Docket No. USCG-2018-0483]

Safety Zones; Fourth of July Fireworks in Captain of the Port San Francisco Zone

AGENCY: Coast Guard, DHS.

ACTION: Notice of enforcement of regulation.

SUMMARY: The Coast Guard will enforce various safety zones within the Captain of the Port San Francisco Zone on specified dates and times. This action is necessary to ensure the safety of vessels, spectators and participants from hazards associated with fireworks. During the enforcement period, unauthorized persons or vessels are prohibited from entering into, transiting through, or anchoring in the safety zone, unless authorized by the Patrol Commander (PATCOM).

DATES: The regulations in 33 CFR 165.1191, Table 1, will be enforced on the date ranges identified in the SUPPLEMENTARY INFORMATION section below. The Coast Guard will provide the maritime community with extensive advance notification of the specific safety zone enforcement periods via the Local Notice to Mariners.

FOR FURTHER INFORMATION CONTACT: If you have questions on this notice, call or email Lieutenant Junior Grade Emily Rowan, U.S. Coast Guard Sector San Francisco; telephone (415) 399-7443 or email at D11-PF-MarineEvents@uscg.mil.

SUPPLEMENTARY INFORMATION: The Coast Guard will enforce the safety zones listed in 33 CFR 165.1191 on the specified date ranges as indicated in the Table below. Specific event times will be published in the Local Notice to Mariners at least 20 days prior to the date of each of the events.

Table 1
3. Fourth of July Fireworks, City of Eureka
Sponsor | City of Eureka, CA.
Event Description | Fireworks Display.
Date | July 4th.
Location | Humboldt Bay, CA.
Regulated Area | 100-foot radius around the fireworks launch barge during the loading of pyrotechnics aboard the fireworks barge and during the transit of the fireworks barge from the loading location to the display location. Increases to a 1,000-foot radius upon commencement of the fireworks display.
4. Fourth of July Fireworks, Crescent City
Sponsor | Crescent City, CA.
Event Description | Fireworks Display.
Date | July 4th.
Location | Crescent City Harbor, Crescent City, CA.
Regulated Area | Crescent City Harbor in the navigable waters within a 700-foot radius of the launch platform located on the West Jetty.
6. Fourth of July Fireworks, Redwood City
Sponsor | Various Sponsors.
Event Description | Fireworks Display.
Date | July 4th.
Location | Redwood City, CA.
Regulated Area | 600-foot radius around the fireworks launch platform located on the pier at the Port of Redwood City.
8. Fourth of July Fireworks, Berkeley Marina
Sponsor | Berkeley Marina.
Event Description | Fireworks Display.
Date | July 4th.
Location | A barge located near Berkeley Pier at approximately 37°51′40″ N, 122°19′19″ W.
Regulated Area | 100-foot radius around the fireworks barge during the loading, transit, setup, and until the commencement of the scheduled display. Increases to a 1,000-foot radius upon commencement of the fireworks display.
9. Fourth of July Fireworks, City of Richmond
Sponsor | Various Sponsors.
Event Description | Fireworks Display.
Date | Week of July 4th.
Location | A barge located in Richmond Harbor in approximate position 37°54′40″ N, 122°21′05″ W, Richmond, CA.
Regulated Area | 100-foot radius around the fireworks barge during the loading, transit, setup, and until the commencement of the scheduled display. Increases to a 560-foot radius upon commencement of the fireworks display.
10. Fourth of July Fireworks, City of Sausalito
Sponsor | City of Sausalito.
Event Description | Fireworks Display.
Date | July 4th.
Location | 1,000 feet off-shore from Sausalito, CA waterfront, north of Spinnaker Restaurant.
Regulated Area | 100-foot radius around the fireworks launch barge during the loading of pyrotechnics aboard the fireworks barge and during the transit of the fireworks barge from the loading location to the display location. Increases to a 1,000-foot radius upon commencement of the fireworks display.
11. Fourth of July Fireworks, City of Martinez
Sponsor | City of Martinez.
Event Description | Fireworks Display.
Date | July 4th.
Location | Carquinez Strait, CA.
Regulated Area | The area of navigable waters within a 560-foot radius of the launch platform located near Waterfront Park.
12. Fourth of July Fireworks, City of Antioch
Sponsor | City of Antioch.
Event Description | Fireworks Display.
Date | July 4th.
Location | San Joaquin River, CA.
Regulated Area | 100-foot radius around the fireworks launch barge during the loading of pyrotechnics aboard the fireworks barge and during the transit of the fireworks barge from the loading location to the display location. Increases to a 1,000-foot radius upon commencement of the moving fireworks display.
13. Fourth of July Fireworks, City of Pittsburg
Sponsor | City of Pittsburg.
Event Description | Fireworks Display.
Date | July 4th.
Location | Suisun Bay, CA.
Regulated Area | The area of navigable waters within a 560-foot radius of the launch platform located on a Pittsburg Marina Pier.
14. Delta Independence Day Celebration Fireworks
Sponsor | Various Sponsors.
Event Description | Fireworks Display.
Date | Week of July 4th.
Location | San Joaquin River, near Mandeville Island, CA.
Regulated Area | 100-foot radius around the fireworks launch barge during the loading of pyrotechnics aboard the fireworks barge and during the transit of the fireworks barge from the loading location to the display location. Increases to a 1,000-foot radius upon commencement of the fireworks display.
15. Fourth of July Fireworks, Tahoe City, CA
Sponsor | Various Sponsors.
Event Description | Fireworks Display.
Date | July 4th.
Location | Off-shore from Common Beach, Tahoe City, CA.
Regulated Area | 100-foot radius around the fireworks launch barge during the loading of pyrotechnics aboard the fireworks barge and during the transit of the fireworks barge from the loading location to the display location. Increases to a 1,000-foot radius upon commencement of the fireworks display.
16. Fourth of July Fireworks, Glenbrook NV
Sponsor | Various Sponsors.
Event Description | Fireworks Display.
Date | July 4th.
Location | Off-shore Glenbrook Beach, NV.
Regulated Area | 100-foot radius around the fireworks launch barge during the loading of pyrotechnics aboard the fireworks barge and during the transit of the fireworks barge from the loading location to the display location. Increases to a 1,000-foot radius upon commencement of the fireworks display.
17. Independence Day Fireworks, Kings Beach, CA
Sponsor | North Tahoe Business Association.
Event Description | Fireworks Display.
Date | Week of July 4th.
Location | Off-shore from Kings Beach, CA.
Regulated Area | 100-foot radius around the fireworks launch barge during the loading of pyrotechnics aboard the fireworks barge and during the transit of the fireworks barge from the loading location to the display location. Increases to a 1,000-foot radius upon commencement of the fireworks display.
18. Lights on the Lake Fourth of July Fireworks, South Lake Tahoe, CA
Sponsor | Various Sponsors.
Event Description | Fireworks Display.
Date | Week of July 4th.
Location | Off South Lake Tahoe, CA near the NV Border.
Regulated Area | 100-foot radius around the fireworks launch barge during the loading of pyrotechnics aboard the fireworks barge and during the transit of the fireworks barge from the loading location to the display location. Increases to a 1,000-foot radius upon commencement of the fireworks display.

Under the provisions of 33 CFR 165.1191, unauthorized persons or vessels are prohibited from entering into, transiting through, or anchoring in the safety zone during all applicable effective dates and times, unless authorized to do so by the PATCOM. Additionally, each person who receives notice of a lawful order or direction issued by an official patrol vessel shall obey the order or direction. The PATCOM is empowered to forbid entry into and control the regulated area. The PATCOM shall be designated by the Commander, Coast Guard Sector San Francisco. The PATCOM may, upon request, allow the transit of commercial vessels through regulated areas when it is safe to do so.

This notice is issued under authority of 33 CFR 165.1191 and 5 U.S.C. 552 a). In addition to this notice in the Federal Register, the Coast Guard will provide the maritime community with extensive advance notification of the safety zone and its enforcement period via the Local Notice to Mariners.

If the Captain of the Port determines that the regulated area need not be enforced for the full duration stated in this notice, a Broadcast Notice to Mariners may be used to grant general permission to enter the regulated area.

Dated: June 26, 2018.
Rebecca W. Deakin,
Lieutenant Commander, U.S. Coast Guard, Chief, Waterways Management Division, Sector San Francisco, By Direction.

[FR Doc. 2018-14131 Filed 6-29-18; 8:45 am]

BILLING CODE 9110-04-P